DEPARTMENT OF ENERGY

Federal Energy Regulatory Commission

[Docket No. CP03-11-000]

Jupiter Energy Corporation; Notice of Application

November 13, 2002.

On November 4, 2002, Jupiter Energy Corporation (Jupiter), 14141 Southwest Freeway, Sugar Land, Texas 77478, a wholly owned subsidiary of Union Oil Company of California (Unocal), filed an application in Docket No. CP03-11-000, pursuant to Section 7(b) of the Natural Gas Act (NGA), and part 157 of the regulations of the Federal Energy Regulatory Commission (Commission), for authorization to abandon all of Jupiter's certificated services, to rescind its certificates, and to declare Jupiter to be exempt from the Commission's jurisdiction, all as more fully set forth in the application which is on file with the Commission and open to public inspection. This filing is available for review at the Commission in the Public Reference Room or may be viewed on the Commission's website at http://www.ferc.gov using the “FERRIS” link. Enter the docket number excluding the last three digits in the docket number field to access the document. For assistance, call (202) 502-8222 or for TTY, (202) 208-8659.

Jupiter states that it performs primarily a non-jurisdictional gathering function, and that it provides this service to only a single customer, Unocal, its parent corporation. Based upon the proposed abandonment and the rescinding of certificates, Jupiter states that it also requests the Commission to determine that Jupiter will no longer be a “natural gas company” subject to the Commission's jurisdiction under the NGA.

Jupiter states that it was the first offshore, natural gas pipeline facility constructed in the Gulf of Mexico. The facility was constructed around 1950 and was located approximately 10 miles offshore in about 40 feet of water in what is now designated as Vermillion Block No. 39 and it served the offshore production of Unocal's predecessor, The Pure Oil Company (Pure).

According to Jupiter, as originally configured, the Jupiter System consisted of two parallel pipelines: one approximately 8.5-mile pipeline with a diameter of 8 5/8 inches (the 8-inch Line) and one approximately 10.2-mile pipeline with a 10 3/4-inch diameter (the 10-inch Line). The 8-inch Line is connected to a platform in Vermillion Block No. 39 that was originally owned by Pure and now by Unocal (Platform 39A). The 10-inch Line was originally connected to both that platform and another nearby platform owned by Phillips Petroleum/Kerr McGee, which has been abandoned for at least a decade. The two Jupiter Lines connected at the shoreline with two parallel pipelines owned by Tennessee Gas Transmission Company (Tennessee).

Jupiter states that in February 2000, shortly after being acquired by Unocal, Jupiter constructed a sub sea interconnect at an existing intersection of Jupiter's 8-inch Line and a 24-inch lateral line of Transcontinental Gas Pipe Line Corporation (Transco) in Vermillion Block No. 22. The Transco interconnection is located approximately 3.2 miles downstream from Platform 39A. Jupiter constructed the interconnect and then abandoned in-place the remainder of its 8-inch Line downstream of the Transco interconnect pursuant to blanket authority granted in Docket No. CP99-536. Tennessee subsequently abandoned its shoreline interconnect with Jupiter's 8-inch Line.

According to Jupiter, the Jupiter pipelines transport unprocessed gas from Platform 39A to the nearest interstate pipelines: either approximately 3 miles on the 8-inch Line to the sub sea interconnect with Transco or approximately 10 miles on the 10-inch Line to the shoreline interconnect with Tennessee. The pipelines operate at pressures ranging from 750 to 950 psig. The gas transported to Tennessee's system on the Jupiter 10-inch Line reaches, after approximately 22 miles of transportation on Tennessee, a separation and dehydration facility that is owned by Jupiter (Jupiter Plant), which straddles the Tennessee line and separates out gas condensate. At the outlet of the Jupiter Plant, the gas is metered and continues on the Tennessee system.

Jupiter states that Unocal owns a series of gathering facilities attached to the wells located in Vermillion Block Nos. 23, 38 and 39 that feed into Platform 39A and then into Jupiter. Those gathering facilities consist of platforms and lease pipelines ranging in diameter from 4.5-inches to 8 and 5/8ths-inches. Jupiter states that it essentially functions as part of this Unocal gathering system and that Unocal expects to integrate the Jupiter gathering facilities into its own gathering operations following Commission approval of this application.

Jupiter also states that Unocal has been the only shipper on Jupiter since at least 1992. Unocal owns all of the gas transported on Jupiter and currently produces over 97.5% of that gas, purchasing the remaining small amounts prior to transportation on Jupiter. Unocal acquired Jupiter in 1997 and, since then, has actively sought other potential shippers for Jupiter without success and it is most unlikely that any other potential shipper will seek access to the Jupiter system.

Any questions regarding this application may be directed to Carol Westmoreland, Union Oil Company of California, Law Department, 14141 Southwest Freeway, Sugar Land, Texas 77478 at (281) 287-7492 or J. Patrick Nevins, Hogan & Hartson, L.L.P., 555 Thirteenth Street, NW., Washington, DC 20004 at (202) 637-6441.

There are two ways to become involved in the Commission's review of this project. First, any person wishing to obtain legal status by becoming a party to the proceedings for this project should, on or before December 4, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. The Commission strongly encourages electronic filings. See 18 CFR 385.2001(a)(1)(iii) and instructions on Commission's web site under the “e-Filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-29276 Filed 11-18-02; 8:45 am]

BILLING CODE 6717-01-P